ENVIRONMENTAL PROTECTION AGENCY

40 CFR Part 52

[EPA-R07-OAR-2017-0512; FRL-9967-96-Region 7]

Air Plan Promulgation and Approval; Kansas; Revisions to the Construction Permits and Approvals Program

AGENCY: Environmental Protection Agency (EPA).

ACTION: Proposed rule.

SUMMARY: Environmental Protection Agency (EPA) is proposing to approve revisions to the Kansas State Implementation Plan (SIP) and the 112(l) program submitted on December 5, 2016, by the State of Kansas. In the “Rules and Regulations” section of this Federal Register, we are approving the State's SIP revisions as a direct final rule without a prior proposed rule. If we receive no adverse comment, we will not take further action on this proposed rule. The submission revises Kansas' construction permit rules. Specifically, these revisions implement the revised National Ambient Air Quality Standard (NAAQS) for fine particulate matter; clarify and refine applicable criteria for sources subject to the construction permitting program; update the construction permitting program fee structure and schedule; and make minor revisions and corrections. Approval of these revisions will not impact air quality, ensures consistency between the State and Federally-approved rules, and ensures Federal enforceability of the State's rules.

DATES: Comments must be received by October 23, 2017.

ADDRESSES: Submit your comments, identified by Docket ID No. EPA-R07-OAR-2017-0512, to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Deborah Bredehoft, Environmental Protection Agency, Air Planning and Development Branch, 11201 Renner Boulevard, Lenexa, Kansas 66219 at (913) 551-7164, or by email at bredehoft.deborah@epa.gov.

SUPPLEMENTARY INFORMATION: This document proposes to take action on the SIP and 112(l) program revisions submitted by the State of Kansas for Kansas Air Regionations 28-19-300, “Construction Permits and Approvals; Applicability”, and Kansas Air Regionations 28-19-304, “Construction Permits and Approvals; Fees”. We have published a direct final rule approving the State's SIP revision (s) in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 8, 2017.
Cathy Stepp,
Acting Regional Administrator, Region 7.

[FR Doc. 2017-20075 Filed 9-20-17; 8:45 am]

BILLING CODE 6560-50-P